FEDERAL MARITIME COMMISSION

Ocean Transportation Intermediary License; Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Access Supply Chain Services LLC (NVO), 65 West 5th Avenue #415, San Mateo, CA 94402, Officer: Christopher P. Kammer, Member, (Qualifying Individual), Application Type: New NVO License.

All Boat Shipping, Inc (NVO), 20505 E. Country Club Drive #2032, Aventura, FL 33180, Officers:, Igors Tjutins, President, (Qualifying Individual), Richard A. Arkey, Vice President, Application Type: New NVO License.

Aequus Worldwide Logistics Inc. (NVO), 319 E. Butterfield Road, Elmhurst, IL 60126, Officer: Sergio N. Steagall, President, (Qualifying Individual), Application Type: New NVO License.

C.R.C. Universal, Inc. (NVO), 7957 NW 67th Street, Miami, FL 33166, Officers: Raul Solar, President, (Qualifying Individual), Carlo L. Mulet, Vice President, Application Type: New NVO License.

Cima Cargo Corp. (NVO & OFF), 10813 NW 30th Street #115, Doral, FL 33172, Officers: Maribel Moreira, Secretary, (Qualifying Individual), Asma Aftimos, President, Application Type: Name Change to Concepts in Freight, Inc.

FGN Global Logistics, Inc. (NVO & OFF), 4770 Highway 165, Meggett, SC 29449, Officers: Hugh R. Parrish, President, (Qualifying Individual), Thomas C. Sasser, Treasurer, Application Type: New NVO & OFF License.

Green Shipping, Inc. (NVO & OFF), 16012 S. Western Avenue #302, Gardena, CA 90247, Officers: Gina Choi, Secretary, (Qualifying Individual), Byung Chung, President, Application Type: New NVO & OFF License.

Luzviminda Cargo Express LLC (NVO), 706 Union Street Suite 410, Seattle, WA 98101, Officers: Rodolfo Mendoza II, Member, (Qualifying Individual), Ronald A. Bermoy, Member, Application Type: New NVO License.

Montgomery International, Inc. (NVO & OFF), 341 Erickson Avenue, P.O. Box 124, Essington, PA 19029, Officers: Ari M. Bobrow, Export Manager, (Qualifying Individual), Romas Krilavicius, Vice President, Application Type: Add NVO Service.

Pacific Crossing Logistics, Inc. (NVO & OFF), 5343 W. Imperial Highway #200, Los Angeles, CA 90045, Officers: Oh Y. Hwang, CFO, (Qualifying Individual), Bong H. Ryon, CEO, Application Type: New NVO & OFF.

Pacific Global Logistics, Inc. (NVO & OFF), 1500 Pumphrey Avenue #105-106, Auburn, AL 36832, Officers: Hyung Tae Kim, COO, (Qualifying Individual), Kee T. Choi, CEO, Application Type: QI Change.

Walmay Logistics Inc. (OFF), 5171 Via Marcos, Yorba Linda, CA 92887, Officers: Shifeng Hou, President, (Qualifying Individual), Song Yang, Managing Director, Application Type: New OFF License.

By the Commission.
Dated: July 27, 2012.
Karen V. Gregory,
Secretary.

[FR Doc. 2012-18801 Filed 7-31-12; 8:45 am]

BILLING CODE 6730-01-P